DEPARTMENT OF TRANSPORTATION

Federal Aviation Administration

14 CFR Part 39

[Docket No. 2003-NM-13-AD]

RIN 2120-AA64

Airworthiness Directives; Airbus Model A300 B2 and A300 B4; Model A300 B4-600, B4-600R, C4-605R Variant F, and F4-600R (Collectively Called A300-600); and Model A310 Series Airplanes

AGENCY: Federal Aviation Administration, DOT.

ACTION: Notice of proposed rulemaking (NPRM).

SUMMARY: This document proposes the adoption of a new airworthiness directive (AD) that is applicable to all Airbus Model A300 B2 and A300 B4; Model A300 B4-600, B4-600R, C4-605R Variant F, and F4-600R (collectively called A300-600); and Model A310 series airplanes. This proposal would require a detailed inspection of certain pulleys and control cables in the rear fuselage for corrosion and damage; and corrective action, if necessary. This action is necessary to detect and correct frayed or corroded control cables for the elevator and rudder, which could result in a ruptured control cable, and possible reduced controllability of the airplane. This action is intended to address the identified unsafe condition.

DATES: Comments must be received by June 7, 2004.

ADDRESSES: Submit comments in triplicate to the Federal Aviation Administration (FAA), Transport Airplane Directorate, ANM-114, Attention: Rules Docket No. 2003-NM-13-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-13-AD” in the subject line and need not be submitted in triplicate. Comments sent via the Internet as attached electronic files must be formatted in Microsoft Word 97 or 2000 or ASCII text.

The service information referenced in the proposed rule may be obtained from Airbus, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-13-AD.” The postcard will be date stamped and returned to the commenter.

Availability of NPRMs

Any person may obtain a copy of this NPRM by submitting a request to the FAA, Transport Airplane Directorate, ANM-114, Attention: Rules Docket No. 2003-NM-13-AD, 1601 Lind Avenue, SW., Renton, Washington 98055-4056.

Discussion

The Direction Générale de l'Aviation Civile (DGAC), which is the airworthiness authority for France, notified the FAA that an unsafe condition may exist on all Airbus Model A300 B2 and A300 B4; Model A300 B4-600, B4-600R, C4-605R Variant F, and F4-600R (collectively called A300-600); and Model A310 series airplanes. The DGAC advises that, during a scheduled maintenance visit on an A310 series airplane, an operator found two frayed and corroded elevator control cables, and one frayed and corroded rudder control cable in the unpressurized stabilizer compartment at the rear of the fuselage. This condition, if not corrected, could result in a ruptured control cable, and possible reduced controllability of the airplane.

The subject area on certain Model A300 B2 and A300 B4; and Model A300 B4-600, B4-600R, C4-605R Variant F, and F4-600R (collectively called A300-600) series airplanes is almost identical to that on the affected Model A310 series airplane. Therefore, those Model A300 B2 and A300 B4; and Model A300 B4-600, B4-600R, C4-605R Variant F, and F4-600R (collectively called A300-600) series airplanes may be subject to the same unsafe condition revealed on the Model A310 series airplanes.

Explanation of Relevant Service Information

Airbus has issued the following service bulletins.

• For Model A300 B2 and A300 B4 series airplanes: Airbus Service Bulletin A300-27A0197, Revision 01, including Appendix 01, dated February 26, 2003;

• For Model A300 B4-600, B4-600R, C4-605R Variant F, and F4-600R (collectively called A300-600) series airplanes: Airbus Service Bulletin A300-27A6051, including Appendix 01, dated August 8, 2002; and

• For Model A310 series airplanes: Airbus Service Bulletin A310-27A2098, including Appendix 01, dated August 8, 2002.

These service bulletins describe procedures for a one-time visual inspection for corrosion and damage (e.g., frayed or broken wires) of the pulleys and cables of the rudder, elevator, trimmable horizontal stabilizer, and rudder trim control located at the rear fuselage. These service bulletins also contain an Inspection Record Sheet in Appendix 01 for reporting inspection findings to the manufacturer.

For airplanes on which no damage is found, the service bulletins describe procedures for lubricating and testing the cables following the inspection. For airplanes on which any damage is found that is within certain limits defined by the applicable aircraft maintenance manual (AMM), the service bulletins allow further flight. For airplanes on which any damage is found that is outside the AMM limits, the service bulletins describe procedures for corrective actions. The corrective actions include replacing the cables prior to further flight, and lubricating and testing the cables.

The DGAC classified these service bulletins as mandatory and issued French airworthiness directive 2002-608(B) R1, dated January 8, 2003, to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletin described previously, except as discussed below.

Differences Among the French Airworthiness Directive, the Service Bulletins, and the Proposed AD

The French airworthiness directive does not define the type of inspection, and the service bulletins state that operators should “visually inspect” the affected cables. This proposed AD defines the inspection as a “detailed inspection.” A definition of this inspection is included in Note 1 of this proposed AD.

The service bulletins do not specify a compliance time for sending the inspection report to the manufacturer, and the French airworthiness directive specifies compliance within the month following the inspection. This proposed AD would require reporting the inspection findings to the manufacturer within 60 days after the proposed inspection. We find that this information is necessary for the manufacturer to gather based upon the importance of the safety issue. We also find that reporting within 60 days ensures an appropriate interval of time for operators to comply with this proposed requirement without compromising safety.

Clarification of Inspection Thresholds

The service bulletins and the French airworthiness directive give inspection thresholds in terms of flight hours accumulated (20,000, 25, 000, and 30,000 total flight hours) on the affected airplanes, well as the number of years since new (10, 13, and 16 years). We have expressed these thresholds in paragraph (c) of this proposed AD in a manner that captures the intent of the service bulletins and French airworthiness directive, and ensures that all affected airplanes are covered.

Additionally, in lieu of expressing thresholds as a number years “since new,” the proposed AD specifies those thresholds as the earlier of the date of issuance of the original Airworthiness Certificate, or the original Export Certificate of Airworthiness. This decision is based on our determination that operators may interpret “since new” differently. We find that our proposed terminology is generally understood within the industry, and records will always exist that establish these dates with certainty.

Interim Action

We consider this proposed AD interim action. If final action is later identified, we may consider further rulemaking then.

Cost Impact

The FAA estimates that 174 airplanes of U.S. registry would be affected by this proposed AD, that it would take approximately 1 work hour per airplane to accomplish the proposed inspection. The average labor rate is $65 per work hour. Based on these figures, the cost impact of the proposed AD on U.S. operators is estimated to be $11,310, or $65 per airplane.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2003-NM-13-AD.

Applicability: All Model A300 B2 and A300 B4; Model A300 B4-600, B4-600R, C4-605R Variant F, and F4-600R (collectively called A300-600); and Model A310 series airplanes; certificated in any category.

Compliance: Required as indicated, unless accomplished previously.

To detect and correct frayed or corroded control cables for the elevator and rudder, which could result in a ruptured control cable, and possible reduced controllability of the airplane, accomplish the following:

Definitions

(a) The term “service bulletin,” as used in this AD, means the Accomplishment Instructions of the following service bulletins, as applicable:

(1) For Model A300 B2 and A300 B4 series airplanes: Airbus Service Bulletin A300-27A0197, Revision 01, including Appendix 01, dated February 26, 2003;

(2) For Model A300 B4-600, B4-600R, C4-605R Variant F, and F4-600R (collectively called A300-600) series airplanes: Airbus Service Bulletin A300-27A6051, including Appendix 01, dated August 8, 2002; and

(3) For Model A310 series airplanes: Airbus Service Bulletin A310-27A2098, including Appendix 01, dated August 8, 2002.

(b) In this AD, the phrase “date of airworthiness certification” means the date of issuance of the original Airworthiness Certificate or the original Export Certificate of Airworthiness, whichever occurs first.

Inspection and Corrective Action

(c) At the applicable time in paragraph (c)(1), (c)(2), (c)(3), or (c)(4) of this AD, do a detailed inspection for corrosion and damage (e.g., frayed or broken wires) of the pulleys and cables of the rudder, elevator, trimmable horizontal stabilizer, and rudder trim control located at the rear of the fuselage; including any applicable testing and lubrication following the inspection. If any corrosion or damage is found that is outside the limits specified in the service bulletin, prior to further flight, replace the affected cable with a new cable; including any applicable testing and lubrication following the replacement. Accomplish all the actions in accordance with the applicable service bulletin.

(1) For airplanes that have accumulated, as of the effective date of this AD, less than 20,000 total flight hours and less than 10 years since the date of airworthiness certification: Inspect at the later of the times specified in paragraphs (c)(1)(i) and (c)(1)(ii) of this AD.

(i) Prior to the accumulation of 20,000 total flight hours, or within 10 years since the date of airworthiness certification, whichever occurs earliest.

(ii) Within 1,800 flight hours after the effective date of this AD.

(2) For airplanes that have accumulated, as of the effective date of this AD, either 20,000 or more total flight hours or more than 10 years since the date of airworthiness certification, but less than 25,000 total flight hours and 13 years since the date of airworthiness certification: Inspect at the later of the times specified in paragraphs (c)(2)(i) and (c)(2)(ii) of this AD.

(i) Prior to the accumulation of 25,000 total flight hours, or within 13 years since the date of airworthiness certification, whichever occurs earliest.

(ii) Within 1,800 flight hours after the effective date of this AD.

(3) For airplanes that have accumulated, as of the effective date of this AD, either 25,000 or more total flight hours or more than 13 years since the date of airworthiness certification, but less than 30,000 total flight hours and 16 years since the date of airworthiness certification: Inspect at the later of the times specified in paragraphs (c)(3)(i) and (c)(3)(ii) of this AD.

(i) Prior to the accumulation of 30,000 total flight hours, or within 16 years since the date of airworthiness certification, whichever occurs earliest.

(ii) Within 1,200 flight hours after the effective date of this AD.

(4) For airplanes that have accumulated, as of the effective date of this AD, either 30,000 or more total flight hours or more than 16 years since the date of airworthiness certification: Inspect within 600 flight hours after the effective date of this AD.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Reporting

(d) Submit a report of the findings (both positive and negative) of the inspection required by paragraph (c) of this AD to Airbus Industrie, Customer Services Directorate, 1 Rond Point Maurice Bellonte, 31707 Blagnac Cedex, France; Attn: AI/SE-D32 Technical Data and Documentation Services, or fax: (+33) 5 61 93 28 06. Send the report at the applicable time specified in paragraph (c)(1) or (c)(2) of this AD. The Inspection Record Sheet in Appendix 01 of the applicable service bulletin may be used. Include the inspection results, a description of any discrepancy found, the airplane serial number, the number of landings and flight hours on the airplane, the service bulletin number, and the date of inspection. Under the provisions of the Paperwork Reduction Act of 1980 (44 U.S.C. 3501 et seq.), the Office of Management and Budget (OMB) has approved the information collection requirements contained in this AD and has assigned OMB Control Number 2120-0056.

(1) If the inspection is done after the effective date of this AD: Submit the report within 60 days after the inspection.

(2) If the inspection was done prior to the effective date of this AD: Submit the report within 60 days after the effective date of this AD.

Alternative Methods of Compliance

(e) In accordance with 14 CFR 39.19, the Manager, International Branch, ANM-116, FAA, Transport Airplane Directorate, is authorized to approve alternative methods of compliance for this AD.

Note 2: The subject of this AD is addressed in French airworthiness directive 2002-608(B) R1, dated January 8, 2003.

Issued in Renton, Washington, on April 27, 2004.
Kevin M. Mullin,
Acting Manager, Transport Airplane Directorate, Aircraft Certification Service.

[FR Doc. 04-10381 Filed 5-6-04; 8:45 am]

BILLING CODE 4910-13-P